DEPARTMENT OF LABOR

Employment and Training Administration

[TA-W-71,291]

Modine Manufacturing Company Including On-Site Leased Workers From Securitas, Aerotek and Accountemps, Pemberville, Ohio; Amended Notice of Revised Determination on Reconsideration

In accordance with Section 223 of the Trade Act of 1974, as amended (“Act”), 19 U.S.C. 2273, the Department of Labor issued a Notice of Revised Determination on Reconsideration on July 30, 2010. The Notice of revised determination was published in the Federal Register on August 13, 2010 (75 FR 49538).

At the request of the State agency, the Department reviewed the revised determination applicable to workers and former workers of Modine Manufacturing Company, Pemberville, Ohio (subject firm). The workers are engaged in employment related to the production of radiators and service parts.

The company reports that workers leased from Securitas, Aerotek, and Accountemps were employed on-site at the Pemberville, Ohio location of Modine Manufacturing Company. The Department has determined that these workers were sufficiently under the control of the subject firm to be considered leased workers.

Based on these findings, the Department is amending this certification to include workers leased from Securitas, Aerotek, and Accountemps working on-site at the Pemberville, Ohio location of Modine Manufacturing Company.

The amended notice applicable to TA-W-71,291 is hereby issued as follows:

All workers of Modine Manufacturing Company, including on-site leased workers from Securitas, Aerotek, and Accountemps, Pemberville, Ohio, who became totally or partially separated from employment on or after June 12, 2008, through July 30, 2012, and all workers in the group threatened with total or partial separation from employment on the date of certification through two years from the date of certification, are eligible to apply for adjustment assistance under Chapter 2 of Title II of the Trade Act of 1974, as amended.

Signed at Washington, DC this 6th day of October 2010.
Del Min Amy Chen,
Certifying Officer, Office of Trade Adjustment Assistance.

[FR Doc. 2010-26015 Filed 10-14-10; 8:45 am]

BILLING CODE 4510-FN-P